DEPARTMENT OF THE INTERIOR

Bureau of Land Management

[IDI-27239 and IDI-32131]

Notice of Realty Action; Non-Competitive Sale of Public Land, Custer County, ID

AGENCY: Bureau of Land Management, Interior.

ACTION: Notice of realty action.

SUMMARY: The Bureau of Land Management (BLM) has examined and determined that two parcels of public land, 5.0 acres and 3.09 acres located in Custer County, Idaho to be suitable for disposal by direct (non-competitive) sale to Wayne and Melodie Baker pursuant to Sections 203 and 209 of the Federal Land Policy and Management Act of 1976, as amended, at no less than the appraised fair market value.

DATES: Interested parties may submit comments to the BLM Challis Field Office Manager, at the below address. Comments must be received by not later than November 21, 2005. Only written comments will be accepted.

ADDRESSES: Address all written comments concerning this Notice to David Rosenkrance, BLM Challis Field Manager, 801 Blue Mountain Road, Challis, Idaho 83226-9304.

FOR FURTHER INFORMATION CONTACT: Gloria Jakovac, Realty Specialist, at the above address or (208) 756-5421.

SUPPLEMENTARY INFORMATION: The following described public land in Custer County, Idaho has been determined to be suitable for sale at not less than fair market value under sections 203 and 209 of the Federal Land Policy and Management Act of 1976, as amended (90 Stat. 2750, 43 U.S.C. 1713 and 1719). It has been determined that this land is difficult to economically manage as part of the public lands. It has been determined that resource values will not be affected by the disposal of these two parcels of public land. Both parcels are identified for disposal in the Challis Resource Management Plan (1999). In accordance with 43 CFR 2711.3-3(a)(5), these two parcels are being offered by direct (non-competitive) sale to Wayne and Melodie Baker of Clayton, Idaho, based on the need to resolve inadvertent unauthorized historic use and occupancy and the value of added improvements. One of the parcels of public land has been fenced in with the private land for many years and used for livestock grazing and hay production. The second parcel of public land has been used for many years as a homesite for hired help, storage area for equipment, and contains a root cellar and storage shed. Failure or refusal by Wayne and Melodie Baker to submit the required fair market appraisal amount within 180 days of the sale of the land will constitute a waiver of this preference consideration and this land may be offered for sale on a competitive or modified competitive basis.

The parcels are described as follows:

Boise Meridian, Idaho

T. 10 N., R. 18 E.,

Section 32, SW¼SW¼NW¼SE¼, SE¼SE¼NE¼SW¼.

The area described (IDI-27239) contains 5.0 acres, more or less. The fair market value for this land utilizing direct sales procedures, at not less than the current appraised fair market value, is determined to be $9,600.00.

The patent, when issued, will contain a reservation to the United States for ditches and canals under the Act of March 30, 1890. The patent, when issued, will be made subject to the following existing rights of record:

1. IDI-08406—Those rights for a public trail granted to the United States Forest Service, its successors or assigns, pursuant to the Act of October 21, 1976 (43 U.S.C. 1761).

2. IDI-33923—Those rights for a telephone right-of-way granted to Custer Telephone Cooperative Incorporated, its successors or assigns, pursuant to the Act of October 21, 1976 (43 U.S.C 1761).

3. IDI-20147—Those rights held by Custer County, its successors or assigns, for an existing road exercised under RS2477 and noted under BLM Serial Number IDI-20147.

Boise Meridian, Idaho

T. 11 N., R. 18 E.,

Section 35, lot 5 (NE¼SE¼SW¼).

The area described (IDI-32131) contains 3.09 acres, more or less. The fair market value for this land utilizing direct sales procedures, at not less than the current appraised fair market value is determined to be $5,000.00.

The patent, when issued, will contain a reservation to the United States for ditches and canals under the Act of March 30, 1890. The patent, when issued, will be made subject to the following existing rights of record:

1. IDI-20147—Those rights held by Custer County, its successors or assigns, for an existing road exercised under RS2477 and noted under BLM Serial Number IDI-20147.

2. IDI-16925—Those rights for a telephone line granted to Custer Telephone Cooperative, Inc., its successors or assigns, pursuant to the Act of October 21, 1976 (43 U.S.C. 1761).

Continued use of the land by valid right-of-way holders is proper subject to the terms and conditions of the grant. Administrative responsibility previously held by the United States will be assumed by the patentee.

It has been determined that the subject parcels contain no known mineral values; therefore, mineral interests will be conveyed simultaneously. A separate non-refundable filing fee of $100.00 total for both parcels is required from the purchasers for conveyance of the mineral interests.

Upon publication of this notice in the Federal Register, the land described above will be segregated from appropriation under the public land laws, including the general mining laws. The segregation will end upon issuance of patent or 270 days from the date of publication, whichever occurs first.

The land will not be offered for sale until at least 60 days after the date of publication of this notice in the Federal Register.

Comments must be received by the BLM Challis Field Manager, Idaho Falls District Office, at the address stated above, on or before the date stated above. Any adverse comments will be reviewed by the Idaho Falls District Manager, who may sustain, vacate or modify this realty action. In the absence of any objects, or adverse comments, this proposed realty action will become the final determination of the Department of the Interior.

Authority: 43 CFR 2711.1-2(c))

Joe J. Kraayenbrink,
District Manager, Idaho Falls District.

[FR Doc. 05-20080 Filed 10-5-05; 8:45 am]

BILLING CODE 4310-GG-P